POSTAL SERVICE

39 CFR Part 20

International Mail Service to the Republic of the Marshall Islands and Federated States of Micronesia Reverted to Domestic Mail Service

AGENCY: Postal Service™.

ACTION: Final rule.

SUMMARY: The Postal Service is amending the Mailing Standards of the United States Postal Service, International Mail Manual (IMM®) to remove references to the Republic of the Marshall Islands and the Federated States of Micronesia. Mail to the Republic of the Marshall Islands and the Federated States of Micronesia is no longer treated as international mail.

DATES: Effective Date: November 19, 2007.

FOR FURTHER INFORMATION CONTACT: Randall F. Sobol, 808-423-3883.

SUPPLEMENTARY INFORMATION: The Postal Service, after high-level discussions with the Republic of the Marshall Islands and the Federated States of Micronesia and consultation with the U.S. Department of State, is returning these countries to domestic published prices and mailing standards.

On September 15, 2005, the Postal Service published in the Federal Register (70 FR 54510) a notice proposing use of the international price schedules for the Republic of the Marshall Islands and the Federated States of Micronesia. The application of international rate schedules to these former Trust Territories of the United States was permissible, in conformity with, and in furtherance of the terms of the Compact of Free Association between the United States Government and the governments of the Republic of the Marshall Islands and the Federated States of Micronesia. After considering comments on its proposal to move these nations to international postal prices, fees, and mail classifications, the Postal Service published, on November 23, 2005, in the Federal Register (70 FR 70976), a notice implementing the new published prices and mailing standards. That notice amended the Mailing Standards of the United States Postal Service, International Mail Manual (IMM®) to include the Republic of the Marshall Islands and the Federated States of Micronesia in most international products and services, and added them to the individual country listings. A subsequent article removed all references to these countries from the Mailing Standards of the United States Postal Service, Domestic Mail Manual (DMM®).

This final rule rescinds the final rule published on November 23, 2005. Effective November 19, 2007, the Republic of the Marshall Islands and the Federated States of Micronesia will revert to the domestic mail classification schedule that was in effect prior to January 8, 2006, the effective date of the original article. The application of international rates to these Freely Associated States had observable effects on the economy and business correspondence of the Republic of the Marshall Islands and the Federated States of Micronesia. The Postal Service had considered a number of business solutions to lessen that impact. Technological and other obstacles currently make other solutions impracticable. Therefore, to allow the governments of the Republic of the Marshall Islands and the Federated States of Micronesia to continue to pursue appropriate long term solutions to this problem without adversely impacting the economies of the parties and the lives of their people, the Postal Service takes this step to return the parties and their people to the position they held prior to the application of the international mail schedule to them. An additional article will be published to add references to these countries to the Mailing Standards of the United States Postal Service, Domestic Mail Manual (DMM®).

List of Subjects in 39 CFR Part 20

Foreign relations, International postal services.

For the reasons discussed above, the Postal Service hereby adopts the following amendments to the International Mail Manual which is incorporated by reference in the Code of Federal Regulations (see 39 CFR part 20).

PART 20—[AMENDED]

1. The authority citation for 39 CFR part 20 continues to read as follows:

Authority: 5 U.S.C. 552(a); 39 U.S.C. 401, 404, 407, 408.

2. Amend the Mailing Standards of the United States Postal Service, International Mail Manual (IMM) as follows.

* * * * *

2 Conditions for Mailing

210 Global Express Guaranteed

* * * * *

213 Service Areas

* * * * *

213.2 Destinating Countries and Rate Groups

* * * * *

[Revise the Destinating Countries and Rate Groups table by deleting “Marshall Islands, Republic of” and “Micronesia, Federated States of.”]

* * * * *

230 Priority Mail International

* * * * *

233 Priority Mail International Parcels

* * * * *

233.2 Exclusions

Ordinary indemnity coverage is not paid for:

* * * * *

[Delete item c in its entirety.]

* * * * *

235 Weight and Size Limits

* * * * *

235.23 Exceptional Size Limits

* * * * *

[Revise item b by deleting “Marshall Islands, Republic of the”, and “Micronesia, Federated States of”]

* * * * *

240 First-Class Mail International

* * * * *

242 Postage

242.1 Rates

The country-specific rate group designations that apply to First-Class Mail International and M-Bags (see 260) are as follows:

* * * * *

[Revise third bullet, “Rate Group 3”, by removing the reference to Marshall Islands and Micronesia.]

* * * * *

[Delete sixth bullet, “Rate Group 6”, in its entirety.]

* * * * *

250 Postcards and Postal Cards

* * * * *

252 Postage Rates and Fees

* * * * *

[Delete item b in its entirety.]

* * * * *

290 Commercial Services

* * * * *

292 International Priority Airmail Service

* * * * *

292.4 Mail Preparation for Individual Items

* * * * *

292.44 Sortation Requirements for IPA

* * * * *

292.442 Presorted Mail

* * * * *

Exhibit 292.442 Foreign Exchange Office and Country Rate Groups

[Revise the Foreign Exchange Office and Country Rate Groups table by deleting “Marshall Islands, Republic of the” and “Micronesia, Federated States of.”]

* * * * *

World Map

[Delete the Republic of the Marshall Islands and the Federated States of Micronesia from map reference M5.]

* * * * *

World Map Index

[Delete references for “Marshall Islands, Republic of the” and “Micronesia, Federated States of” from the world map index.]

Index of Countries and Localities

[Revise the references for “Marshall Islands, Republic of the” and “Micronesia, Federated States of” by adding the note “See DMM 608” and removing the IMM page number.]

* * * * *

Individual Country Listings

[Delete the individual country listings for the Republic of the Marshall Islands and the Federated States of Micronesia.]

* * * * *

Neva R. Watson,
Attorney, Legislative.

[FR Doc. E7-21486 Filed 10-30-07; 8:45 am]

BILLING CODE 7710-12-P